DEPARTMENT OF HEALTH AND HUMAN SERVICES

Centers for Medicare & Medicaid Services

[Document Identifier: CMS-10112, CMS-R-218]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1.Type of Information Collection Request: New collection; Title of Information Collection: Phone Surveys of Product/Service for Medicare Payment Validation and Supporting Regulations in 42 CFR 405.502; Form No.: CMS-10112 (OMB# 0938-NEW); Use: This collection will be used to identify specific Medicare Part B products/services provided to Medicare beneficiaries and the costs associated with the provision of those products/services. The information collected will be used to validate the Medicare payment amounts for those products/services and institute revisions of payment amounts where necessary. The respondents will be the companies that have provided the product/service under review to Medicare beneficiaries.; Frequency: On occasion; Affected Public: Business or other for-profit; Number of Respondents: 2,000; Total Annual Responses: 2,000; Total Annual Hours: 16,000.

2.Type of Information Collection Request: Extension of a currently approved collection; Title of Information Collection: ICRS Contained in 45 CFR Part 162; HIPAA Standards for Electronic Transactions; Use: This submission contains information collection requirements in HCFA-0149-F, CMS-0003-P, CMS-0005-P, and CMS-003/005-F. This collection establishes standards for electronic transactions and for code sets to be used in those transactions. The collection standardizes the approximately 400 formats of electronic health care claims used in the United States. The use of these standards significantly reduces the administrative burden associated with paper documents, lowers operating costs, and improves data quality for health care providers and health plans; Form Number: CMS-R-218 (OMB# 0938-0866); Frequency: On occasion; Affected Public: Business or other for-profit; Number of Respondents: 3.4 million; Total Annual Responses: 3.4 million; Total Annual Hours: 1 hour.

To obtain copies of the supporting statement and any related forms for the proposed paperwork collections referenced above, access CMS Web site address at http://www.cms.hhs.gov/regulations/pra/, or e-mail your request, including your address, phone number, OMB number, and CMS document identifier, to Paperwork@cms.hhs.gov, or call the Reports Clearance Office on (410) 786-1326. Written comments and recommendations for the proposed information collections must be mailed within 30 days of this notice directly to the OMB desk officer: OMB Human Resources and Housing Branch, Attention: Christopher Martin, New Executive Office Building, Room 10235, Washington, DC 20503.

Dated: December 23, 2004.
John P. Burke, III,
CMS Paperwork Reduction Act Reports Clearance Officer, Office of Strategic Operations and Regulatory Affairs, Regulations Development Group.

[FR Doc. 04-28649 Filed 12-30-04; 8:45 am]

BILLING CODE 4120-03-P